DEPARTMENT OF AGRICULTURE

Submission for OMB Review; Comment Request

October 3, 2005.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Agricultural Marketing Service

Title: Dried Prunes Produced in California—Dried Prune Handler Compensation Survey.

OMB Control Number: 0581-0208.

Summary of Collection: Marketing Orders (Orders) and Agreements (Agreements) covering the respective commodities emanate from the Agricultural Marketing Agreement Act of 1937, Secs. 1-19, 48 Stat. 31, as amended; 7 U.S.C. 601-674. This regulation, hereinafter referred to as the Act, was designed to permit regulation of certain agricultural commodities for the purpose of providing orderly marketing conditions in interstate commerce and improving returns to producers. The Act provides in section 608(d)(1) that information necessary to determine the extent to which an order has effectuated the declared policy of the Act shall be furnished at the request of the Secretary of Agriculture (Secretary). Under the Prune Marketing Order, handlers are compensated for such costs as inspection, receiving, storing, grading and fumigation of reserve prunes held for the account of the Prune Marketing Committee. A formula has been established in the administrative rules and regulations that allow the Committee to compute the level of handler payments that reflect current industry costs. The Committee will obtain current industry costs through surveys of dried prune handlers, and average costs will be computed based on the number of handlers participating in the survey and the compensation rate will be updated based on the survey.

Need and Use of the Information: When volume regulations are in effect, the survey is filled out by handlers on a voluntary basis to inform the Prune Marketing Committee of their costs associated with inspection, receiving, storing, grading, handling and fumigation, as well as other costs.

Description of Respondents: Business or other for-profit; farms.

Number of Respondents: 22.

Frequency of Responses: Recordkeeping; Reporting: On occasion; Annually.

Total Burden Hours: 6.

Agricultural Marketing Service

Title: Dried Prunes Produced in California—Prune Dehydrator Survey.

OMB Control Number: 0581-0211.

Summary of Collection: Marketing Orders (Orders) and Agreements. (Agreements) covering the respective commodities emanate from the Agricultural Marketing Agreement Act of 1937, Secs. 1-19, 48 Stat. 31, as amended; 7 U.S.C. 601-674. This regulation, hereinafter referred to as the Act, was designed to permit regulation of certain agricultural commodities for the purpose of providing orderly marketing conditions in interstate commerce and improving returns to producers. Under the Prune Marketing Order, prune producers may participate in a voluntary prune plum diversion program, when a reserve pool is implemented. Under this program, prune producers can elect to divert part of their prune plum crop from normal prune or prune product markets. Because dry-away ratios are the basis for computing the dried weight equivalent of diverted fresh prune plums, and those currently established are outdated, the Prune Marketing Committee will obtain current dry-away ratios through a voluntary survey submitted by commercial prune dehydrators, when the program is implemented.

Need and Use of the Information: The commercial prune dehydrators inform the Committee of their annual dry-away ratios for the preceding five years by completing this survey. The Prune Marketing Committee will use the information to average those ratios and compute a five-year average dray-away ratio for each producing region, and apply that ratio to diverted prune plums in those regions. The information to be provided is on a voluntary basis and includes the most recent six years of dry-away ratios for each commercial prune dehydrator owned or operated, the dehydrator location, the county(ies) where the dehydrator receives prunes, and in cases of dehydrators receiving prunes from multiple counties, the estimated percentage of production each county supplies to the dehydrator.

Description of Respondents: Business or other for-profit; farms.

Number of Respondents: 17.

Frequency of Responses: Recordkeeping; Reporting: On occasion; annually.

Total Burden Hours: 5.

Charlene Parker,
Departmental Information Collection Clearance Officer.

[FR Doc. 05-20166 Filed 10-6-05; 8:45 am]

BILLING CODE 3410-02-P